DEPARTMENT OF THE INTERIOR

Bureau of Land Management

Notice of Availability of the Proposed Resource Management Plan and Final Environmental Impact Statement for the Sloan Canyon National Conservation Area (SCNCA)

AGENCY: Bureau of Land Management, Interior.

COOPERATING AGENCIES: Nevada Department of Wildlife, Nevada State Historic Preservation Office, Clark County Department of Comprehensive Planning, City of Henderson, City of Boulder City, Las Vegas Paiute Tribe, Paiute Indian Tribe of Utah, Fort Mojave Indian Tribe.

ACTION: Notice of Availability.

SUMMARY: The Proposed Resource Management Plan and Final Environmental Impact Statement (RMP/FEIS) for the Sloan Canyon National Conservation Area is available to the public for a 30-day protest period. The proposed plan and associated FEIS were developed in accordance with the National Environmental Policy Act (NEPA) of 1969, the Federal Land Policy and Management Act (FLPMA) of 1976, and the Clark County Conservation of Public Land and Natural Resources Act of 2002 (Clark County Act) (Pub. L. 107-282).

DATES: BLM will accept written protests on the FEIS if postmarked within 30 calendar days of the date that a Notice of Availability is published in the Federal Register by the Environmental Protection Agency. Instructions for filing a protest are described in the Dear Reader letter in the PRMP and are also included in the Supplementary Information section of this notice.

ADDRESSES: The PRMP/FEIS and other associated documents or background information may be viewed and downloaded in PDF format at the project Web site at http://wwwblm.gov/nhp/spotlight/state_info/planning.htm. Copies of the PRMP/FEIS are available at the BLM Las Vegas Field Office, 4701 North Torrey Pines Drive, Las Vegas, NV 89130-2301. Reference copies are available for review during regular business hours at the following locations:

BLM Nevada State Office, 1340 Financial Blvd., Reno, NV 89502.

Paseo Verde Library, 280 S. Green Valley Pkwy, Henderson, NV 89012.

Boulder City Library, 701 Adams Blvd., Boulder City, NV 89005.

North Las Vegas Library, 2300 Civic Center Dr., North Las Vegas.

Summerlin Library, 1771 Inner Circle Dr., Las Vegas, NV 89134.

FOR FURTHER INFORMATION CONTACT: For further information visit the Web site (http://www.blm.gov/nhp/spotlight/state_info/planning.htm), E-mail: sloan_information@bah.com, or contact: Charles Carroll, BLM Las Vegas Field Office, Attn: Sloan Canyon NCA, 4701 North Torrey Pines Drive, Las Vegas, NV 89130-2301, Telephone (702) 515-5000.

SUPPLEMENTARY INFORMATION: The SCNCA was officially designated in November, 2002 when the President signed into law the Clark County Act [Pub. L. 107-282] to preserve and protect a portion of southern Nevada's Mojave Desert for the benefit and enjoyment of present and future generations. The Clark County Act requires the BLM to develop a plan for the appropriate use and management of the Sloan Canyon NCA and North McCullough Wilderness within three years of enactment.

The Draft Resource Management Plan/Draft Environmental Impact Statement (DRMP/DEIS) for the Sloan Canyon NCA was released for public review on March 25, 2005. Comments that were received on the DRMP/DEIS during the 90-day review period from the public, cooperating agencies, and internal BLM review were considered in developing the PRMP.

The PRMP provides a framework for the future management direction and appropriate use of the Sloan Canyon NCA and North McCullough Wilderness. The Sloan Canyon NCA is comprised of approximately 48,400 acres of Mojave Desert terrain immediately south of Henderson, NV. The North McCullough Wilderness is entirely contained within the NCA and consists of approximately 14,800 acres.

The PRMP contains the proposed plan and summary of the changes made between the Draft RMP/EIS and PRMP. The agency preferred alternative, Alternative C, was developed to allow moderate development of facilities and uses while conserving and protecting the resources of the SCNCA. Some elements of the draft Alternative C were modified in consideration of comments received on the Draft RMP/EIS and further review by BLM and the cooperating agencies listed above. The PRMP/FEIS describes the predictable impacts of the proposed plan and contains a summary of written and verbal comments received during the public review period, and responses to the comments received. The PRMP focuses on the comprehensive management of resources in the Sloan Canyon NCA including managing recreational uses and the protection of the Sloan Canyon Petroglyph Site.

The resource management planning process includes an opportunity for public administrative review of the proposed land use planning decisions during a 30-day protest period following the publication of the PRMP. Any person who participated in the planning process for this PRMP, and has an interest which is or may be adversely affected, may protest approval of this PRMP and land use planning decisions contained within it (see 43 CFR 1610.5-2) during this 30-day period. Only those persons or organizations who participated in the planning process leading to the PRMP may protest. The protesting party may raise only those issues submitted for the record during the planning process leading up to the publication of this PRMP. These issues may have been raised by the protesting party or others. New issues may not be brought into the record at the protest stage. The 30-day period for filing a plan protest begins when the EPA publishes in the Federal Register its Notice of Availability of the final environmental impact statement containing the PRMP. There is no provision for any extension of time. To be considered “timely” the protest, along with all attachments, must be filed and postmarked no later than the last day of the protest period. A letter of protest must be filed in accordance with the planning regulations, 43 CFR 1610.5-2(a)(1). Protests must be in writing. E-mail or faxed protests will not be accepted as valid protests unless the protesting party also provides the original letter by either regular or overnight mail postmarked by the close of the protest period. Under these conditions, BLM will consider the E-mail or faxed protests as an advance copy and it will receive full consideration. If you wish to provide BLM with such advance notification, please direct faxed protests to the attention of the BLM protest coordinator at 202-452-5112, and e-mails to Brenda_Hudgens-Williams@blm.gov. If sent by regular mail, send to: Director (210), Attention: Brenda Williams, P.O. Box 66538, Washington, DC 20035. For overnight mailing, send to: Director (210), Attention: Brenda Williams, 1620 L Street, NW., Suite 1075, Washington, DC 20036. In order to be considered complete, the protest must contain, at minimum, the following information:

1. The name, mailing address, telephone number, and interest of the person filing the protest.

2. A statement of the part or parts of the PRMP and the issue or issues being protested. To the extent possible, this should be done by reference to specific pages, paragraphs, sections, tables, maps, etc., included in the document.

3. A copy of all documents addressing the issue(s) that the protesting party submitted during the planning process or a statement of the date they were discussed for the record.

4. A concise statement explaining why the protestor believes the Nevada BLM State Director's proposed decision is believed to be incorrect. This is a critical part of your protest, therefore document all relevant facts. As much as possible, reference or cite the planning documents, or available planning records (e.g. meeting minutes or summaries, correspondence, etc.).

Upon resolution of any protests, an Approved Plan and Record of Decision will be issued. The Approved Plan will be mailed to all who participated in the planning process and will be available to all interested parties through the above Web site, or by mail upon request.

Juan Palma,
Field Manager, Las Vegas.

[FR Doc. 05-20617 Filed 10-13-05; 8:45 am]

BILLING CODE 4310-33-P